DEPARTMENT OF COMMERCE

International Trade Administration

[A-357-812]

Honey from Argentina: Notice of Partial Rescission of Antidumping Duty Administrative Review

AGENCY: Import Administration, International Trade Administration, Department of Commerce.

ACTION: Notice of partial rescission of antidumping duty administrative review.

SUMMARY: On January 22, 2004, the Department of Commerce (the Department) published in the Federal Register (69 FR 3117) a notice announcing the initiation of the administrative review of the antidumping duty order on honey from Argentina. The period of review (POR) is December 1, 2002, to November 30, 2003. This review has now been partially rescinded for certain companies because the requesting parties withdrew their requests.

EFFECTIVE DATE: March 15, 2004.

FOR FURTHER INFORMATION CONTACT: Brian Sheba or Donna Kinsella, Enforcement Group III, Office 8, Import Administration, International Trade Administration, U.S. Department of Commerce, 14th Street and Constitution Avenue, N.W., Room 7866, Washington, D.C. 20230; telephone (202) 482-0145 and (202) 482-0194, respectively.

SUPPLEMENTARY INFORMATION:

Scope of the Review

The merchandise under review is honey from Argentina. For purposes of this review, the products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise under review is currently classifiable under subheadings 0409.00.00, 1702.90.90, and 2106.90.99 of the Harmonized Tariff Schedule of the United States (HTSUS). Although the HTSUS subheadings are provided for convenience and U.S. Customs and Border Protection (Customs) purposes, the Department's written description of the merchandise under this order is dispositive.

Background

On December 31, 2003, the American Honey Producers Association and the Sioux Honey Association ( collectively “petitioners”) requested an administrative review of the antidumping duty order on honey from Argentina in response to the Department's notice of opportunity to request a review published in the Federal Register. See Notice of Antidumping Duty Order: Honey from Argentina, 66 FR 63672 (December 10, 2001). The petitioners requested the Department conduct an administrative review of entries of subject merchandise made by 13 Argentine producers/exporters. In addition, the Department received requests for reviews from 6 of the Argentine exporters included in the petitioners' request. Prior to the Department's initiation of review, on January 15, 2004, petitioners filed a withdrawal of request for review of the following four companies: ConAgra Argentina S.A., Establecimiento Don Angel S.r.L., Food Way S.A., and Mielar, S.A. The Department subsequently initiated a review on the remaining 9 companies. See Initiation of Antidumping and Countervailing Duty Administrative Reviews and Request for Revocation in Part, 69 FR 3117 (January 22, 2004).

On February 18, 2004, petitioners submitted a withdrawal of request for review of Compania Europea Americana, S.A. and Radix S.r.L. See Letter from petitioners to the Department, Partial Withdrawal of Request for Second Administrative Review of the Antidumping Duty Order on Honey From Argentina, dated February 18, 2004, which is on file in the Central Records Unit (CRU), room B-099 of the main Commerce Department Building.

The applicable regulation, 19 CFR 351.213(d)(1), states that if a party that requested an administrative review withdraws the request within 90 days of the publication of the notice of initiation of the requested review, the Secretary will rescind the review. The petitioners made a request for withdrawal within the 90-day deadline, in accordance with 19 CFR 351.213(d)(1). Because the petitioners were the only party to request the administrative review of the above listed companies, we have accepted the withdrawal request. Therefore, for Compania Europea Americana, S.A. and Radix S.r.L., we are rescinding this review of the antidumping duty order on honey from Argentina covering the period December 1, 2002, through November 30, 2003.

This notice is issued and published in accordance with sections 751(a)(1) and 777(i)(l) of the Act and 19 CFR 351.213(d)(4) of the Department's regulations.

Dated: March 5, 2004.
James J. Jochum,
Assistant Secretary for Import Administration.

[FR Doc. 04-5797 Filed 3-12-04; 8:45 am]

BILLING CODE 3510-DS-S